DEPARTMENT OF TRANSPORTATION

Federal Aviation Administration

14 CFR Part 71

[Docket No. FAA-2004-18609; Airspace Docket No. 03-AWP-15]

Establishment of Class E Airspace; California City, CA

AGENCY: Federal Aviation Administration (FAA), DOT.

ACTION: Direct final rule; confirmation of effective date.

SUMMARY: This document confirms the effective date of the direct final rule, which establishes Class E airspace at California City, CA.

DATES: 0901 UTC, November 25, 2004.

FOR FURTHER INFORMATION CONTACT: Debra Trindle, Air Traffic Division, Airspace Branch, AWP-520, DOT Regional Headquarters Building, Federal Aviation Administration, 1500 Aviation Boulevard, Lawndale, California 90261, telephone (310) 725-6613.

SUPPLEMENTARY INFORMATION: The FAA published this direct final rule with a request for comments in the Federal Register on August 11, 2004, (69 FR 487666). The FAA uses the direct final rulemaking procedure for a non-controversial rule where the FAA believes that there will be no adverse public comment. This direct final rule advised the public that no adverse comments were anticipated, and that unless a written adverse comment, or a written notice of intent to submit such an adverse comment, were received within the comment period, the regulation would become effective on November 25, 2004. No adverse comments were received, and thus this action confirms that this direct final rule will be effective on that date.

Issued in Los Angeles, California, September 23, 2004.
John Clancy
Area Director, Western Terminal Operations.

[FR Doc. 04-22611 Filed 10-7-04; 8:45 am]

BILLING CODE 4910-13-M